DEPARTMENT OF COMMERCE

National Oceanic and Atmospheric Administration

RIN 0648-XG186

North Pacific Fishery Management Council; Public Meeting

AGENCY: National Marine Fisheries Service (NMFS), National Oceanic and Atmospheric Administration (NOAA), Commerce.

ACTION: Notice of public meeting.

SUMMARY: The North Pacific Fishery Management Council (Council) Observer Advisory Committee (OAC) will meet May 16 through May 17, 2018.

DATES: The meeting will be held on Wednesday, May 16, 2018, from 8:15 a.m. to 5:30 p.m. and on Thursday, May 17, 2018, from 8:15 a.m. to 5:30 p.m.

ADDRESSES: The meeting will be held in the Traynor Room, Building 4 at the Alaska Fisheries Science Center, 7700 Sand Point Way NE, Seattle, WA 98115. Teleconference available upon request.

Council address: North Pacific Fishery Management Council, 605 W 4th Ave, Suite 306, Anchorage, AK 99501-2252; telephone: (907) 271-2809.

FOR FURTHER INFORMATION CONTACT: Elizabeth Figus, Council staff; telephone: (907) 271-2801.

SUPPLEMENTARY INFORMATION:

Agenda

Wednesday, May 16 and Thursday, May 17, 2018

The agenda will include: (a) An update on the EM Workgroup status and Council priorities; (b) review of the NMFS Cost Allocation Policy Directive document; (c) discussion of Observer Program Review Documents; (d) discussion of the Fee Analysis outline and objectives; (e) a review of the Observer Analytical Task status document; (f) a briefing on the observer safety report; and, (g) discussion of scheduling and other issues. The Agenda is subject to change, and the latest version will be posted at http://www.npfmc.org/observer-program/.

Public Comment

Public comment letters will be accepted and should be submitted either electronically to Elizabeth Figus, Council staff: Elizabeth.figus@noaa.gov or through the mail: North Pacific Fishery Management Council, 605 W 4th Ave, Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 20, 2018.
Rey Israel Marquez,
Acting Deputy Director, Office of Sustainable Fisheries, National Marine Fisheries Service.

[FR Doc. 2018-08701 Filed 4-24-18; 8:45 am]

BILLING CODE 3510-22-P